DEPARTMENT OF COMMERCE

National Oceanic and Atmospheric Administration

[RTID 0648-XE918]

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Snapper Grouper Commercial Sub-Committee; Mackerel Cobia Committee; Snapper Grouper Committee; and Joint Habitat & Ecosystem and Shrimp Committee. The meeting week will also include a formal public comment session and meetings of the Full Council.

DATES: The Council meeting will be held from 8:30 a.m. on Monday, June 9, 2025, until 12 p.m. on Friday, June 13, 2025.

ADDRESSES: The meeting will be held at the Radisson Resort at the Port, 8701 Astronaut Blvd., Cape Canaveral, FL 32920; phone (321) 406-5615. The meeting will also be available via webinar. See SUPPLEMENTARY INFORMATION section.

FOR FURTHER INFORMATION CONTACT: Kim Iverson, Public Information Officer, South Atlantic Fishery Management Council; phone (843) 302-8440 or (843) 571-4366; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/june-2025-council-meeting/. Written comments will be accepted from May 23, 2025, until June 13, 2025. These comments are accessible to the public, part of the Administrative Record of the meeting, and immediately available for Council consideration. A formal public comment session will also be held during the Council meeting.

Items of Discussion for Individual Meeting Agendas

Snapper Grouper Commercial Sub-Committee, Monday, June 9, 2025, 8:30 a.m. Until 10 a.m.

The Snapper Grouper Commercial Sub-Committee will review deliverables from its March 2025 meeting and the history of income requirements in South Atlantic fisheries, continue to discuss issues to be addressed in the commercial snapper grouper fishery, and consider items for public scoping.

Council Session I, Monday, June 9, 2025, 10:15 a.m. Until 12 p.m. (Closed Session)

The Council will meet in closed session to receive a litigation brief if needed, review applicants for advertised advisory panel seats and provide recommendations, and propose policy modifications to the Council's Advisory Panel Policy as needed. The Council will also consider appointments to the Scientific and Statistical Committee (SSC), the Social and Economic Subpanel, discuss Council Committee membership, and nominees for the 2024 Law Enforcement Officer of the Year Award.

Council Session I, Monday, June 9, 2025, 1:30 p.m. Until 5 p.m. and Tuesday, June 10, 2025, 8:30 a.m. Until 12 p.m.

The Council will receive a litigation brief and reports from law enforcement, Council liaisons, staff, NMFS Southeast Regional Office and Southeast Science Center, and the Council's Dolphin Wahoo Advisory Panel. The Council will also receive an update on Resilient Fisheries Projects, a review of Executive Orders, and review the Council's Research and Monitoring Plan.

The Council will review the Comprehensive For-Hire Reporting Improvement Amendment currently under development, including input received during public scoping and from its advisory panels. Council members will also discuss Terms of Reference for the 2026 stock assessment for gag grouper and receive a South Atlantic Headboat Report.

Mackerel Cobia Committee, Tuesday, June 10, 2025, 1:30 p.m. Until 3 p.m.

The Committee will receive a report from the Mackerel Cobia Advisory Panel, consider possible management topics for discussion, and receive a presentation on the Gulf Council's engagement efforts with mackerel stakeholders.

Snapper Grouper Committee, Tuesday, June 10, 2025, 3:15 p.m. Until 5 p.m.; Wednesday, June 11, 2025, 8:30 a.m. Until 3:45 p.m.; and Thursday, June 12, 2025, 8:30 a.m. Until 3 p.m.

The Committee will receive an Exempted Fishing Permit briefing, an update from NMFS on the status of amendments under review, and an update on Secretarial Amendment 59 to the Snapper Grouper FMP addressing red snapper management and the 2025 South Atlantic recreational red snapper season.

The Committee will receive presentations on Maximum Sustainable Yield Proxies. The Committee will discuss Stock Risk Ratings, receive an assessment presentation, and review recommendations from the SSC and Snapper Grouper Advisory Panel (AP) relative to Amendment 56 to the Snapper Grouper Fishery Management Plan (FMP) addressing management measures for black sea bass.

The Committee will discuss development of management measures for golden tilefish through an abbreviated framework amendment and possible revisions to the Snapper Grouper Management Complex management unit. The Committee will also receive assessment presentations and input from its SSC and Snapper Grouper AP to set catch levels for yellowtail snapper and mutton snapper through Amendment 44 to the Snapper Grouper FMP. The Committee will receive a presentation from NMFS and review Snapper Grouper AP recommendations relative to Snapper Grouper Amendment 46 addressing Recreational Permit and Education Requirements and consider approval of the amendment for public hearings. Management measures for Atlantic blueline tilefish are being considered and the Committee will receive an assessment presentation, SSC and advisory panel recommendations, and a Fishery Overview for the stock. The Committee will also hear from the Snapper Grouper AP on items not covered during the Committee meeting, and an update on the Snapper Grouper Management Strategy Evaluation.

Public Comment Session—Wednesday, June 11, 2025, 4 p.m.

Public comment will be accepted from individuals attending the meeting in person and via webinar on all items on the Council meeting agenda. The Council Chair will determine the amount of time provided to each commenter based on the number of individuals wishing to comment.

Joint Habitat & Ecosystem and Shrimp Committees, Thursday, June 12, 2025, 3:15 p.m. Until 5 p.m.

The Committees will review the Comprehensive Shrimp Fishery Access Area Amendment (Coral Amendment 11 and Shrimp Amendment 12) addressing a proposed shrimp access area and will consider approving the amendment for public hearings.

Council Session II, Friday, June 13, 2025, 8:30 a.m. Until 12 p.m.

The Council will receive Committee reports, review the Council Workplan and upcoming meetings, and discuss any other business as needed.

Disclaimers

Documents regarding these issues are available from the Council office (see ADDRESSES section).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES section) 5 days prior to the meeting.

Note: The times and sequence specified in this agenda are subject to change.

Authority: 16 U.S.C. 1801 et seq.

Dated: May 14, 2025.
Rey Israel Marquez,
Acting Deputy Director, Office of Sustainable Fisheries, National Marine Fisheries Service.

[FR Doc. 2025-08871 Filed 5-16-25; 8:45 am]

BILLING CODE 3510-22-P